COURT SERVICES AND OFFENDER SUPERVISION AGENCY

Privacy Act of 1974: New System of Records

AGENCY: Court Services and Offender Supervision Agency (CSOSA)

ACTION: Notice of a new system of records.

SUMMARY: CSOSA proposes to add a new system of records to its inventory of record systems subject to the Privacy Act of 1974 (5 U.S.C. 552a), as amended, titled “Kiosk System.” This action is necessary to meet the requirements of the Privacy Act to publish in the Federal Register notice of the existence and character of records maintained by the agency (5 U.S.C. 552a(e)(4)). This system allows CSOSA to collect and maintain records on individuals under supervision who pose a very low level of risk to the community and allows those individuals to provide the information needed to fulfill his/her reporting requirement through the use of a self-service technology. This system has been in operation since April 2008 without incident. In the meantime, appropriate measures to ensure confidentiality, integrity and access controls have been maintained.

DATES: Submit written comments on or before May 16, 2013. This new system will be effective May 16, 2013 unless comments are received that would result in a contrary determination.

ADDRESSES: You may submit written comments, identified by “Kiosk System, CSOSA-21” to Rorey Smith, Deputy General Counsel and Chief Privacy Officer, Office of General Counsel, Court Services and Offender Supervision Agency, 633 Indiana Avenue NW., Room 1380, Washington, DC, 20004, or to rorey.smith@csosa.gov.

FOR FURTHER INFORMATION CONTACT: Rorey Smith, (202) 220-5797, Office of General Counsel, Court Services and Offender Supervision Agency, Washington, DC 20004.

SUPPLEMENTARY INFORMATION: In accordance with the Privacy Act of 1974, 5 U.S.C. 552a, CSOSA proposes to establish a new system of records titled, “Kiosk System.” This system of records is being established to allow individuals under supervision who pose a very low level of risk to the community to use the self-service technology to provide the information needed to fulfill his/her reporting requirement and to allow the Community Supervision Officer to meet the documented contact and supervision standards. This is the same information that would be confirmed/verified if the individual were meeting with his/her Community Supervision Officer in person.

In accordance with 5 U.S.C. 552a(r), CSOSA has provided a report of this system of records to the Office of Management and Budget and to Congress.

SYSTEM OF RECORDS:

Kiosk System—CSOSA-21

SYSTEM NAME:

Kiosk System.

SECURITY CLASSIFICATION:

Unclassified.

SYSTEM LOCATION:

The Kiosk System application and database records are maintained at CSOSA, Office of Information Technology, 633 Indiana Avenue NW., 7th Floor, Washington, DC 20004.

CATERGORIES OF INDIVIDUALS COVERED BY THE SYSTEM:

Individuals covered by the Kiosk System are individuals under supervision who are approved for reporting through the kiosk self-service technology. In addition, there is information on CSOSA staff members who are authorized to access and use the system.

CATEGORIES OF RECORDS IN THE SYSTEM:

The system contains the following records: individual's name; date of birth; Identification Numbers: Police Department Identification (PDID), CSOSA Number, Probationer Identification Number (PIN); date when the offender's supervision expires; addresses and phone numbers (home, employment, school, emergency contact); email addresses; physical description and characteristics (eye color, hair color, ethnicity, race, height, weight; a hand biometric scan; selection to report for the use of illegal substances testing (random selection process); and information on any rearrests.

The system also contains the following records on CSOSA staff members: logon information (username); assigned role/permission level in the kiosk system; individual's name; and CSOSA phone number, email, title, supervisor, and office location.

AUTHORITY FOR MAINTENANCE OF THE SYSTEM:

Information maintained in the Kiosk System is collected pursuant to the National Capital Revitalization and Self-Government Improvement Act of 1997 (the Act), Public Law 105-33, DC Official Code § 24-133. The Act grants CSOSA the authority to supervise District of Columbia individuals on probation, parole, and supervised release.

PURPOSE(S):

The purpose of the Kiosk System is to allow individuals under supervision who pose a very low level of risk to the community to use self-service technology to provide the information needed to fulfill his/her reporting requirement to CSOSA. The information confirmed/provided by the individual through the kiosk self-service technology allows the Community Supervision Officer to complete the required verifications and meet the documented contact and supervision standards.

In addition, the information on the CSOSA staff members is used to verify and validate that appropriate individuals are given access to the kiosk system, and to follow up as needed should there be issues with the accounts, access to the system, etc.

ROUTINE USES OF RECORDS MAINTAINED IN THE SYSTEM, INCLUDING CATEGORIES OF USERS AND THE PURPOSES OF SUCH USES:

CSOSA is not establishing routine uses for the Kiosk System at this time; however, CSOSA will make other disclosures generally permitted under 5 U.S.C. 552a(b) of the Privacy Act.

DISCLOSURE TO CONSUMER REPORTING AGENCIES:

None.

POLICIES AND PRACTICES FOR STORING, RETREIVING, ACCESSING, RETAINING, AND DISPOSING OF RECORDS IN THE SYSTEM:

STORAGE:

Records in this system are stored electronically or on paper in secure facilities behind a locked door. The records may be stored on magnetic disc, tape, other digital media, and/or on paper.

RETREIVABILITY:

Offenders who are approved to report through the kiosk self-service technology can retrieve their information through the use of the Probationer Identification Number (PIN), in conjunction with the hand biometric scan. This combination allows the offender to properly identify him or herself to the kiosk self-service technology.

CSOSA staff members are able to search and retrieve the information by a number of personal identifiers: last name, first name, date of birth, Police Department Identification (PDID), PIN, or CSOSA Number.

SAFEGUARDS:

Records in this system are safeguarded in accordance with application laws, rules and policies, including federal and all applicable CSOSA automated systems security and access policies. Strict controls have been imposed to minimize the risk of compromising the information that is being stored. Access to the computer system containing the records in this system is limited to those offenders who are eligible, approved and enrolled for reporting through the kiosk self-service technology and to CSOSA staff members with appropriate clearances or permissions who have a need to know the information or to access to the system for the performance of their official duties.

RETENTION AND DISPOSAL:

The records retention schedule (DAA-0562-2012-0002) has been submitted by CSOSA to the National Archives and Records Administration for review and approval.

SYSTEM MANAGER(S) AND ADDRESS:

Associate Director, Community Supervision Services, Court Services and Offender Supervision Agency, 300 Indiana Avenue NW., Washington, DC 20004.

NOTIFICATION PROCEDURE:

Inquiries concerning this system should be directed to the Office of the General Counsel, Court Services and Offender Supervision Agency, 633 Indiana Avenue NW., Washington, DC 20004.

RECORD ACCESS PROCEDURES:

See “Notification Procedure” above.

CONTESTING RECORD PROCEDURES:

See “Notification Procedure” above.

RECORD SOURCE CATEGORIES:

The information in the Kiosk System comes from one of four sources: (1) The individual under supervision; (2) from another CSOSA IT system, when an individual is enrolled for kiosk reporting and specific existing data on the individual is pulled into the system from a staging database/staging tables associated with CSOSA's case management system (this provides the base demographic data needed by staff to properly identify the offender, and provides the initial residence, employment, school and emergency contact information that the offender will review, confirm and maintain via reporting through the kiosk self-service technology); (3) information generated by the Kiosk System; and (4) information entered by CSOSA staff, when the information entered by staff includes the capture of the hand biometric (offender's right hand), verification of the data in the system, disabling an offender from reporting through the kiosk self-service technology (at the end of supervision, or due to non-compliance), and re-enabling and offender to report through the kiosk self-service technology.

EXEMPTIONS CLAIMED FOR THE SYSTEM:

None.

Dated: April 10, 2013.
Rorey Smith,
Office of General Counsel, Court Services and Offender Supervision Agency.

[FR Doc. 2013-08885 Filed 4-15-13; 8:45 am]

BILLING CODE 3129-04-P